Title 3—

The President

Proclamation 9626 of July 14, 2017

Captive Nations Week, 2017

By the President of the United States of America

A Proclamation

During Captive Nations Week, we stand in solidarity with those living under repressive regimes, and we commit to promoting our American ideals, grounded in respect for natural rights and protected by the rule of law, throughout the world. As President Reagan often reminded us, as a shining city upon a hill, America has a duty to shine its beacon light on freedom-loving people around the world.

President Eisenhower first proclaimed Captive Nations Week during the Cold War with the Soviet Union, promising that America would stand with those people in captive nations who seek “freedom and national independence.” The Soviet Union collapsed more than a quarter of a century ago, but hundreds of millions of people around the world still live under the tyranny of authoritarian regimes. Authoritarianism and its many injustices have wrought misery and held captive the dreams of generations, while nations that value liberty have prospered and empowered their citizens to pursue their God-given potential to the fullest.

The injustices and abuses authoritarian regimes inflict on their own people affect us all, and we must recognize the bond we share with those who long to be free from oppression. Throughout our Nation's history, brave Americans have fought for the freedom of those suffering under authoritarianism. These American service members have shined light in the darkest corners of the world, those that are marred by starvation, political imprisonment, religious intolerance, and many other civil rights abuses.

Our military and diplomatic experiences have taught us that freedom is a powerful, yet fragile force that must be tirelessly protected. We continue to encourage despotic regimes to turn away from their oppressive ideologies and embrace a more hopeful and prosperous future for their people. This week, and always, we stand with all people throughout the world who are fighting for liberty, justice, and the rule of law.

The Congress, by Joint Resolution approved July 17, 1959 (73 Stat. 212), has authorized and requested the President to issue a proclamation designating the third week of July of each year as “Captive Nations Week.”

NOW, THEREFORE, I, DONALD J. TRUMP, President of the United States of America, by virtue of the authority vested in me by the Constitution and the laws of the United States, do hereby proclaim July 16 through July 22, 2017, as Captive Nations Week. I call upon all Americans to reaffirm our commitment to those around the world striving for liberty, justice, and the rule of law.

IN WITNESS WHEREOF, I have hereunto set my hand this fourteenth day of July, in the year of our Lord two thousand seventeen, and of the Independence of the United States of America the two hundred and forty-second.

[FR Doc. 2017-15339

Filed 7-18-17; 11:15 am]

Billing code 3295-F7-P